DEPARTMENT OF ENERGY

National Petroleum Council Meeting

AGENCY: Office of Fossil Energy and Carbon Management, Department of Energy.

ACTION: Notice of open meeting.

SUMMARY: This notice announces a meeting of the National Petroleum Council. The Federal Advisory Committee Act requires that public notice of this meeting be announced in the Federal Register.

DATES: Wednesday, December 3, 2025; 9 a.m. to no later than 12 p.m. (EST).

ADDRESSES: Willard InterContinental, 1401 Pennsylvania Avenue NW, Washington, DC 20004. In-person meeting. Information to access a live stream of the meeting proceedings will be available at: www.energy.gov/fecm/national-petroleum-council-npc.

FOR FURTHER INFORMATION CONTACT: Paul Bamonte, U.S. Department of Energy, Office of Resource Sustainability (FE-30), 1000 Independence Avenue SW, Washington, DC 20585; telephone: (240) 252-8069 or email: paul.bamonte@hq.doe.gov.

SUPPLEMENTARY INFORMATION:

Purpose of the Committee: To provide advice, information, and recommendations to the Secretary of Energy on matters relating to oil and natural gas, and the oil and natural gas industries.

Purpose of the Meeting: The National Petroleum Council will hold a meeting on December 3, 2025, to present and consider for approval the final reports of the Committees on Gas-Electric Coordination and Oil and Gas Infrastructure Permitting.

Tentative Agenda:

• Call to Order and Introductory Remarks

• Department of Energy Remarks

• Presentations, Discussion, and Consideration of the Final Reports of the NPC Gas-Electric Coordination and Oil and Gas Infrastructure Permitting Committees

• Discussion of Any Other Business Properly Brought Before the National Petroleum Council

• Adjournment

Public Participation: The meeting is open to the public. The Chair of the Council will conduct the meeting to facilitate the orderly conduct of business. Members of the public who wish to make oral statements pertaining to agenda items should contact Mr. Paul Bamonte at the address or telephone number listed above. Approximately 15 minutes will be reserved for public comments. The time allocated per speaker will depend on the number of requests received but will not exceed five minutes. Requests for oral statements must be received at least seven days prior to the meeting. Those not able to attend the meeting or having insufficient time to address the Council are invited to send a written statement to paul.bamonte@hq.doe.gov. Any member of the public who wishes to file a written statement to the Council will be permitted to do so, either before or after the meeting.

Minutes: The minutes of the meeting will be available at https://www.energy.gov/fecm/national-petroleum-council-npc, or by contacting Mr. Bamonte. He may be reached at the postal address or email address listed previously.

Signing Authority: This document of the Department of Energy was signed on November 13, 2025, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 14, 2025.
Jennifer Hartzell,
Alternate Federal Register Liaison Officer, U.S. Department of Energy.

[FR Doc. 2025-20133 Filed 11-17-25; 8:45 am]

BILLING CODE 6450-01-P